DEPARTMENT OF JUSTICE

Notice of Lodging of Consent Decree Pursuant to the Comprehensive Environmental Response, Compensation, and Liability Act

In accordance with departmental policy, notice is hereby given that on April 13, 2004, a proposed consent decree in the case captioned United States of America v. Kerr-McGee Chemical LLC, Civil Action No. 04 C 2001 (N.D. Illinois), was lodged with the United States District Court for the Northern District of Illinois.

In this action, the United States sought recovery under section 107(a) of the Comprehensive Environmental Response, Compensation, and Liability Act, as amended, 42 U.S.C. 9606, 9607(a), against Kerr-McGee Chemical LLC (“Kerr-McGee”) for past costs incurred in connection with the Lindsay Light II Superfund Removal Site (“Site”) in Chicago, Illinois. The proposed consent decree would resolve the past cost claims at four of the operable units at the Site. Under the proposed consent decree, Kerr-McGee will pay the United States $640,000 in exchange for a covenant not to sue for past costs on those four operable units.

The Department of Justice will receive, for a period of thirty (30) days from the date of this publication, comments relating to the proposed consent decree. Comments should be addressed to the Assistant Attorney General of the Environment and Natural Resource Division, Department of Justice, Washington, DC 20530, and should refer to United States of America v. Kerr-McGee Chemical LLC, Civil Action No. 04 C 2001 (N.D. Illinois), and DOJ Reference No. 90-11-3-1313/2.

The proposed consent decree may be examined at: (1) The Office of the United States Attorney for the Northern District of Illinois, 219 South Dearborn St., Chicago, IL 60604, and (2) the United States Environmental Protection Agency (Region 5), 77 West Jackson Boulevard, Chicago, Illinois 60604-3590. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $6.00 (25 cents per page reproduction cost) payable to the U.S. Treasury.

William D. Brighton,
Assistant Section Chief, Environmental Enforcement Section, Environment and Natural Resources Division.

[FR Doc. 04-9092 Filed 4-21-04; 8:45 am]

BILLING CODE 4410-15-M